DEPARTMENT OF THE INTERIOR

Bureau of Land Management

43 CFR Part 1820

[WO-850-1820-XZ-24-1A]

RIN 1004-AD34

Application Procedures

AGENCY: Bureau of Land Management, Interior.

ACTION: Final rule.

SUMMARY: The Bureau of Land Management (BLM) amends its regulations pertaining to the list of State Offices addresses and Areas of Jurisdiction included in the Code of Federal Regulations. The public will continue to direct personal, messenger, express mail, direct filing, and other delivery by United States mail to the same street or post office box address as before. This rule will have no impact or cost to the public.

EFFECTIVE DATE: April 16, 2003.

FOR FURTHER INFORMATION CONTACT: Diane O. Williams, Regulatory Affairs, (202) 452-5030. Persons who use a telecommunications device for the deaf may contact Ms. Williams through the Federal Information Relay Service at 1-800-877-8339, 24 hours a day, 7 days a week.

ADDRESSES: You may send inquiries or suggestions to Director (172), Bureau of Land Management, Eastern States Office, 7450 Boston Boulevard, Springfield, Virginia 22153; Attention: RIN 1004-AD34.

SUPPLEMENTARY INFORMATION:

I. Background and Purpose of Rule

II. Procedural Matters

I. Background and Purpose of Rule

The BLM is issuing this final rule for the convenience of the public to provide a current list of BLM State Offices locations. This is necessary due to several recent office moves. This list has no substantive impact on the public, nor imposes any costs, and merely updates a list of addresses and areas of jurisdiction included in the Code of Federal Regulations. Therefore, the Department of the Interior, for good cause, finds under 5 U.S.C. 553(b)(B) and 553(d)(3) that notice and public procedures are unnecessary and that this rule may take effect upon publication.

II. Procedural Matters

Executive Order 12866, Regulatory Planning and Review

This final regulation is not a significant regulatory action and is not subject to review by the Office of Management and Budget under Executive Order 12866. This final regulation will not have an effect of $100 million or more on the economy. It will not adversely affect in a material way the economy, productivity, competition, jobs, the environment, public health or safety, or State, local, or tribal governments or communities. This final regulation will not create a serious inconsistency or otherwise interfere with an action taken or planned by another agency. The final regulation does not alter the budgetary effects of entitlements, grants, user fees, or loan programs or the right or obligations of their recipients, nor does it raise novel legal or policy issues.

Regulatory Flexibility Act

Congress enacted the Regulatory Flexibility Act of 1980 (RFA) 5 U.S.C. 601 et seq., to ensure that Government regulations do not unnecessarily or disproportionately burden small entities. The BLM has determined under the RFA that this final rule would not have a significant economic impact on a substantial number of small entities.

Small Business Regulatory Enforcement Fairness Act

This final rule is not a major rule as defined at 5 U.S.C. 804(2), the Small Business Regulatory Enforcement Fairness Act. It should not have an annual effect on the economy of $100 million or more. The rule will not cause a major increase in costs of prices for consumers, individual industries, Federal, State, or local government agencies, or geographics regions. It will not have significant adverse effects on competition, employment, investment, productivity, innovation, or the ability of U.S.-based enterprises to compete with foreign-based enterprises.

Unfunded Mandates Reform Act

The BLM has determined that the final rule is not significant under the Unfunded Mandates Reform Act of 1995 because it will not result in the expenditure by State, local, and tribal governments, in the aggregates, or by the private sector, of $100 million or more in any one year.

Further, the final rule will not significantly or uniquely affect small governments. It does not require action by any non-federal government entity. Therefore, the information required by the Unfunded Mandates Reform Act, 2 U.S.C. 1531 et seq., is not required.

Executive Order 12630, Governmental Actions and Interference With Constitutionally Protected Property Rights (Takings)

As required by Executive Order 12630, the Department of the Interior has determined that the rule would not cause a taking of private property. No private property rights are affected by this rule which only updates the list of addresses for BLM State Offices printed in the Code of Federal Regulations. The Department therefore certifies that this rule does not represent a governmental action capable of interference with constitutionally protected property rights or require further discussion of the Takings implications under this Executive Order.

Executive Order 13132, Federalism

In accordance with Executive Order 13132, BLM finds that the rule does not have sufficient federalism implications to warrant the preparation of a federalism summary impact statement. This final rule does not have substantial direct effects on the States, on the relationship between the national government and the States, or the distribution of power and responsibilities among the various levels of government. This final rule does not preempt State law.

Executive Order 13175, Consultation and Coordination With Indian Tribal Governments

In accordance with Executive Order 13175, BLM finds that the rule does not include policies that have tribal implications. This final rule is purely an administrative action having no effects upon the public or the environment, imposing no costs, and merely updating a list of BLM State Offices addresses included in the Code of Federal Regulations.

Executive Order 12988, Civil Justice Reform

Under Executive Order 12988, Civil Justice Reform, the Office of the Solicitor has determined that this rule would not unduly burden the judicial system and that it meets the requirements of the sections 3(a) and 3(b)(2) of the Order.

Paperwork Reduction Act

This final rule does not contain information collection requirements that the Office of Management and Budget must approve under the Paperwork Reduction of 1995, 44 U.S.C. 3501 et seq. This final rule merely updates a list of BLM State Offices addresses included in the Code of Federal Regulations. This final rule does not require the public to provide information.

National Environment Policy Act

This final rule is purely administrative action and has no effect upon the public or the environment, it imposes no costs, and merely updates a list of BLM State Offices addresses included in the Code of Federal Regulations for the convenience of the public. Therefore, it is categorically excluded from the environmental review under section 102(2)(C) of the National Environment Policy Act of 1969 (NEPA), 42 U.S.C. 4332(2)(C), pursuant to 516 Departmental Manual (DM), Chapter 2, Appendix 1. In addition, the Department has determined that none of the exceptions to categorical exclusions, listed in 516 DM 2, Appendix 2, applies to this rule. The Council on Environment Quality regulations at 40 CFR 1508.4, define “categorical exclusions” as a category of actions that the Department has determined ordinarily do not individually or cumulatively have a significant effect on the human environment. Therefore, neither an environmental assessment nor environmental impact statement under the NEPA is required.

Executive Order 13211, Actions Concerning Regulation That Significantly Affect Energy Supply, Distribution, or Use

In accordance with Executive Order 13211, BLM has determined that the final rule will not have substantial direct effects on the energy supply, distribution or use, including a shortfall in supply or price increase. This final rule merely updates a list of BLM State Offices addresses included in the Code of Federal Regulations.

Clarity of the Regulations

Executive Order 12866 requires each agency to write regulations that are simple and easy to understand. The BLM invites your comments on how to make these regulations easier to understand, including answers to questions such as the following:

1. Are the requirements in the final regulations clearly stated?

2. Do the final regulations contain technical language or jargon that interferes with their clarity?

3. Does the format of the final regulations (grouping and order of sections, use of headings, paragraphing, etc.) aid or reduce their clarity?

4. Would the final regulations be easier to understand if they were divided into more (but shorter) sections?

5. Is the description of the final regulations in the SUPPLEMENTARY INFORMATION section of this preamble helpful in making the final regulations easier to understand?

Please send any comments you have on the clarity of the regulations to the address specified in the ADDRESSES section.

List of Subjects in 43 CFR Part 1820

Administrative practice and procedure, Archives and records, Public lands.

Dated: April 8, 2003.
Rebecca W. Watson,
Assistant Secretary, Land and Minerals Management.

For the reasons discussed in the preamble, the Bureau of Land Management, amends 43 CFR part 1820 as follows:

PART 1820—APPLICATION PROCEDURES

1. The authority citation for part 1820 continues to read as follows:

Authority: 5 U.S.C. 552, 43 U.S.C. 2, 1201, 1733, and 1740.

Subpart 1821—General Information

2. In § 1821.10 amend paragraph (a) by revising the list of State Offices and Areas of Jurisdiction to read as follows:

§ 1821.10 Where are the BLM offices located?

(a) * * *

State Offices and Areas of Jurisdiction

Alaska State Office, 222 West 7th Avenue, #13, Anchorage, Alaska 99513-7599—Alaska.

Arizona State Office, 222 North Central Avenue, Phoenix, Arizona 85004-2203—Arizona.

California State Office, 2800 Cottage Way, Room W-1834, Sacramento, California 95825-1886—California.

Colorado State Office, 2850 Youngfield Street, Lakewood, Colorado 80215-7093-Colorado.

Eastern States Office, 7450 Boston Boulevard, Springfield, Virginia 22153—Arkansas, Iowa, Louisiana, Minnesota, Missouri, and States east of the Mississippi River.

Idaho State Office, 1387 South Vinnell Way, Boise, Idaho 83709-1657—Idaho.

Montana State Office, 5001 Southgate Drive, Billings, Montana 59101, P.O. Box 36800, Billings, Montana 59107-6800—Montana, North Dakota, and South Dakota.

Nevada State Office, 1340 Financial Boulevard, Reno, Nevada 89502-7147, P.O. Box 1200, Reno, Nevada 89520-0006—Nevada.

New Mexico State Office, 1474 Rodeo Road, Santa Fe, New Mexico 87505, P.O. Box 27115, Santa Fe, New Mexico 87502-0115—Kansas, New Mexico, Oklahoma, and Texas.

Oregon State Office, 333 Southwest 1st Avenue, Portland, Oregon 97204, P.O. Box 2965, Portland, Oregon 92708-3420—Oregon and Washington.

Utah State Office, 324 South State Street, Salt Lake City, Utah 84111-2303, P.O. Box 45155, Salt Lake City, Utah 84145-0155—Utah.

Wyoming State Office, 5353 Yellowstone Road, Cheyenne, Wyoming 82009, P.O. Box 1828, Cheyenne, Wyoming 82003—Wyoming and Nebraska.

* * * * *

[FR Doc. 03-9350 Filed 4-15-03; 8:45 am]

BILLING CODE 4310-84-P